DEPARTMENT OF ENERGY

Federal Energy Regulatory Commission

[Project No. 13417-001]

Western Technical College; Notice of Intent To File License Application, Filing of Pre-Application Document, and Approving Use of the Traditional Licensing Process

June 3, 2010.

a. Type of Filing: Notice of Intent to File License Application and Request to Use the Traditional Licensing Process.

b. Project No.: 13417-001.

c. Date Filed: December 21, 2009.

d. Submitted By: Western Technical College (Western).

e. Name of Project: Angelo Dam Hydroelectric Project.

f. Location: On the La Crosse River, in Monroe County, Wisconsin. The project would not occupy any federal lands.

g. Filed Pursuant to: 18 CFR 5.3 of the Commission's regulations.

h. Potential Applicant Contact: Michael Pieper, Vice President of Finance and Operations, Western Technical College, 400 Seventh Street, North, La Crosse, WI 54602-0908; (608) 785-9200.

i. FERC Contact: Steve Hocking at (202) 502-8753; or e-mail at steve.hocking@ferc.gov.

j. Western filed a request to use the Traditional Licensing Process on December 21, 2009, and provided public notice of this request on November 23, 2009. In a letter dated February 26, 2010, the Director of the Office of Energy Projects approved Western's request to use the Traditional Licensing Process.

k. With this notice, we are initiating informal consultation with: (a) The U.S. Fish and Wildlife Service and/or the National Marine Fisheries Service (NMFS) under section 7 of the Endangered Species Act and the joint agency regulations thereunder at 50 CFR, Part 402; (b) NMFS under section 305(b) of the Magnuson-Stevens Fishery Conservation and Management Act and implementing regulations at 50 CFR 600.920; and (c) the Illinois State Historic Preservation Officer, as required by Section 106, National Historical Preservation Act, and the implementing regulations of the Advisory Council on Historic Preservation at 36 CFR 800.2.

l. Western filed a Pre-Application Document (PAD; including a proposed process plan and schedule) with the Commission pursuant to 18 CFR 5.6 of the Commission's regulations.

m. A copy of the PAD is available for review at the Commission in the Public Reference Room or may be viewed on the Commission's Web site http://www.ferc.gov using the “eLibrary” link. Enter the docket number, excluding the last three digits in the docket number field to access the document. For assistance, contact FERC Online Support at FERCONlineSupport@ferc.gov or toll free at (866) 208-3676, or for TTY, (202) 502-8659. A copy of the PAD is also available for inspection and reproduction at the address in paragraph h.

n. Register online at http://www.ferc.gov/docs-filing/esubscription.asp to be notified via e-mail of new filings and issuances related to this or other pending projects. For assistance, contact FERC Online Support.

Kimberly D. Bose,
Secretary.

[FR Doc. 2010-14030 Filed 6-10-10; 8:45 am]

BILLING CODE 6717-01-P